DEPARTMENT OF TRANSPORTATION

Federal Aviation Administration

14 CFR Part 71

[Docket No. FAA-2010-0049; Airspace Docket No. 08-AWA-1]

RIN 2120-AA66

Modification of Class B Airspace; Charlotte, NC

AGENCY: Federal Aviation Administration (FAA), DOT.

ACTION: Final rule.

SUMMARY: This action modifies the Charlotte, NC, Class B airspace area to ensure the containment of aircraft, accommodate the implementation of area navigation (RNAV) departure procedures, and support operations of the third parallel runway at Charlotte/Douglas International Airport. The FAA is taking this action to improve the flow of air traffic, enhance safety, and reduce the potential for midair collision in the Charlotte, NC, terminal area.

DATES: Effective Date: 0901 UTC, January 13, 2011. The Director of the Federal Register approves this incorporation by reference action under 3 CFR part 51, subject to the annual revision of FAA Order 7400.9 and publication of conforming amendments.

FOR FURTHER INFORMATION CONTACT: Paul Gallant, Airspace Regulations and ATC Procedures Group, Office of Airspace Systems and AIM, Federal Aviation Administration, 800 Independence Avenue, SW., Washington, DC 20591; telephone: (202) 267-8783.

SUPPLEMENTARY INFORMATION:

Background

On March 3, 2010, the FAA published in the Federal Register a notice of proposed rulemaking (NPRM) to modify the Charlotte, NC Class B airspace area (75 FR 9538). This action proposed to expand the lateral and vertical limits of the Charlotte Class B airspace area: To provide the additional airspace needed to support operations of a third parallel runway and the implementation of RNAV departure procedures; to contain ILS approach procedures for runways 23, 18L, 18C (formerly 18R but redesignated November 20, 2008) and the new runway (18R); and to contain aircraft being vectored to a base leg from the west when Charlotte/Douglas International Airport (CLT) is on a north operation.

In addition, the FAA published in the Federal Register a correction to the notice to provide a graphic chart of the proposed area that was inadvertently omitted from notice (75 FR 13049; March 18, 2010). Interested parties were invited to participate in this rulemaking effort by submitting written comments on the proposal. Twelve written comments were received in response to the notice.

Discussion of Comments

Two commenters expressed concerns about the availability of the published low altitude area navigation (RNAV) routes (i.e., T-routes) through the Charlotte terminal area. One commenter wrote that he regularly flies east/west across North Carolina but seldom is cleared for a T-route. Another commenter said that the FAA should re-evaluate and potentially amend the Charlotte T-routes if necessary to increase availability.

There are currently four T-routes that traverse Charlotte's terminal airspace. T-200 and T-202 are east/west oriented routes; and T-201 and T-203 are north/south routes. The FAA acknowledges that availability of the east/west T-routes is limited. When the new runway 36L/18R opened in November 2009 and in order to accommodate triple instrument operations, Charlotte airport traffic control tower (ATCT) restricted overflight traffic on V-66, T-200 and T-202 during certain times. This restriction is in place when Charlotte is on a north operation (i.e., aircraft landing and departing to the north). The FAA has reviewed the existing T-routes and found that it is difficult to utilize the east/west T-routes through the Charlotte terminal area more than the current practice. When Charlotte is on a north operation, final radar airspace begins at Charlotte airport and extends southward to the boundary with Columbia, SC, ATCT airspace. On a south operation, final radar airspace begins at the airport and extends northward to the boundary with Atlanta Air Route Traffic Control Center (ARTCC). Because traffic in the above mentioned areas is descending from the enroute structure all the way to the surface for landing, it is difficult to provide additional T-routes through these areas. This is likely to continue because, since June 2009, there has been a five percent increase in traffic at the Charlotte airport, with traffic projected to continue to increase at a moderate rate. It should be noted that controllers do not normally “offer” T-routes to pilots when they are approaching Charlotte airspace. When these routes were first developed, it was the expectation that pilots would file the T-routes in their flight plan. When the T-route is not filed in the flight plan and a pilot subsequently requests clearance into a T-route, controllers must re-clear the aircraft off the filed route and onto the T-route and amend the pilot's route in the National Airspace System (NAS). This could lead to confusion as to where the route begins and ends, and where the route leaves or rejoins the previously filed route. It should also be noted that the two north/south oriented T-routes through Charlotte's airspace remain available with very few restrictions. Any limitations imposed on those routes would be based on real-time traffic. If pilots wish to file a T-route in the flight plan, Charlotte controllers will make every attempt to allow the pilot to remain on the route.

Five persons wrote with concerns about expanding the part of the Class B airspace (with a 4,000 foot MSL floor) over Lancaster County-McWhirter Field (LKR), located in Lancaster, South Carolina. They contend that the change would cause the loss of, or modification to, an approved Aerobatic Practice Area (APA) at LKR. The APA is used by many members of the International Aerobatic Club and a number of aerobatic teams train there. The APA currently extends from 500 feet above ground level (AGL) to 4,000 feet AGL, and operates in accordance with a waiver granted by the FAA. Commenters contend that the Class B airspace floor is set at 4,000 feet MSL in this area as proposed, the APA would extend nearly 500 feet into Class B airspace. They note that the APA ceiling could be lowered to 3,500 feet AGL, but this would allow only a 14 foot margin below the Class B for pilots to avoid an airspace violation. Commenters suggested that the Class B floor over LKR be raised to at least 5,000 feet MSL to allow them to fly safely while practicing competitive aerobatics.

The FAA recognizes that establishing a 4,000 foot MSL Class B airspace floor would place the ceiling of LKR's APA within Class B airspace. However, FAA's facility operation directive (FAA Order 7210.3, Facility Operation and Administration) specifically addresses aerobatic practice areas and provides a means for air traffic managers to accommodate aerobatic practice activity within Class B airspace. Based on the guidelines stated in the directive, the FAA believes it can work out a satisfactory arrangement with the aerobatic operators at LKR.

Also, one of the commenters questioned the need for Charlotte arrivals from the southeast and the west to be at 3,500 feet AGL when 30 nautical miles (NM) from the Charlotte airport. The FAA has carefully considered the Class B airspace configuration in this area. The proposal to extend Class B airspace over LKR with a floor of 4,000 feet MSL was based on procedures required for managing arrivals and departures using runway 36R. Runway 36R is used for all east and southbound departures. In addition, runway 36R is used for both departure and arrival traffic to avoid extensive taxi and runway crossing requirements. General aviation, corporate and military traffic departing from and arriving to, the fixed base operator and Air National Guard areas on the airport are often assigned runway 36R. Assigning this traffic to runway 36R enhances efficiency because that runway is closest to those ramps and parking areas. This practice keeps runway crossings to a minimum, which reduces the potential for runway incursions and greatly enhances the safety of aircraft movement on the airport surface areas. Arrivals to runway 36R often require at least four nautical miles (NM) in-trail spacing. This is necessary to provide space for runway 36R departures to depart safely between arrivals. In-trail spacing of greater than four NM is required for wake turbulence considerations when the preceding aircraft is a heavy jet or if the weight class difference between the leading and trailing aircraft meet certain criteria. Both the in-trail spacing required for departures and the in-trail spacing required for wake turbulence contribute to the lengthening of the final approach course. Therefore, it is not uncommon for the final approach course to extend to a point adjacent to LKR.

Additionally, the initial approach altitude for traffic conducting the ILS runway 36R approach is 4,000 feet MSL. During triple simultaneous ILS operations (runways 36R, 36C and 36L) the following altitude assignments are used: Runway 36R—4,000 feet MSL; runway 36C—8,000 feet MSL; and runway 36L—5,000 or 6,000 feet MSL. FAA separation standards for triple ILS approaches require that arriving aircraft be vertically separated by a minimum of 1,000 feet until they are established inbound on the ILS final approach course (localizer). Based on the above, the FAA concluded that the 4,000 foot MSL floor is needed to provide adequate Class B airspace for these aircraft operations.

Two commenters wrote that the expansion of Class B airspace by adding Area J would significantly impact general aviation and sky diving operations at Chester Catawba Regional Airport (DCM), in Chester, SC. The new Area J lies to the south of the Charlotte airport between the 25 NM and 30 NM arcs of the Charlotte VOR/DME. It extends from 4,000 feet MSL up to 10,000 feet MSL. While DCM currently lies outside the Charlotte Class B airspace area, the new Area J would overlie the airport.

The FAA does not agree that the new Area J would cause significant impact on DCM operations. The instrument procedures serving the airport are still available and airport VFR traffic patterns are not affected by the expanded Class B airspace. The sky dive operations will continue to be accommodated at DCM. Charlotte ATCT is working with the operators of SkyDive Carolina to develop a mutually satisfactory Letter of Agreement (LOA) governing those operations. The LOA will standardize the handling of jump aircraft at DCM and provide a workable solution that will mitigate the concerns of both parties.

One commenter questioned the validity of the reason stated in the notice for lowering Class B airspace to 4,000 feet MSL in that area. The NPRM stated that when Charlotte is on a north operation, a significant number of aircraft inbound from the southwest on either the UNARM ONE or ADENA TWO standard terminal arrival routes (STAR) exit and reenter Class B airspace between the current 6,000 foot MSL Class B airspace floor and the 4,600 foot MSL floor to the south-southwest of Charlotte. The commenter questioned this reasoning because the two STARs never get closer than nine NM to DCM. The commenter suggested that a two NM cutout of Class B airspace centered on DCM would permit unhampered operations at DCM while containing aircraft inbound to CLT within Class B airspace.

The FAA does not agree with the suggestion for a two NM Class B airspace cutout around DCM. If the airspace over DCM is not contained within Class B airspace, it would be necessary for controllers to direct aircraft to the north or south of DCM. This would greatly increase controller workload and frequency congestion while decreasing efficiency. The FAA finds that any Class B airspace cutout of usable size or shape would require extensive vectoring of aircraft to remain in Class B airspace.

In response to the above mentioned comment that the UNARM and ADENA STARs never get closer than nine NM to DCM, it is true when Charlotte is on a south operation using runways 18R, 18C, 18L and 23 for landing. However, when Charlotte is on a north operation, traffic is vectored off the UNARM and ADENA STARs almost immediately upon entering Charlotte ATCT's area of jurisdiction. This traffic is then assigned an easterly heading for vectors to the runway 36L, 36C or 36R final approach course. A review of radar-derived plots of actual flight patterns used on a north operation clearly show that DCM is overflown by aircraft assigned these base leg vectors.

Two commenters asked the FAA to consider lowering the current 10,000 foot MSL ceiling of the Charlotte Class B airspace area to 7,000 feet MSL. One commenter stated that there is no requirement for Class B airspace to extend to 10,000 feet MSL and cited other Class B locations (New York, Philadelphia and Boston) that currently have a 7,000 foot ceiling. The commenter believes that reducing the Charlotte Class B airspace ceiling would allow nonparticipating aircraft to transition the area with greater ease, reducing pilot and controller workloads.

The FAA does not agree with the commenters requests. Class B design guidelines state that the upper limit of Class B airspace normally should not exceed 10,000 feet MSL. However, Class B airspace dimensions are individually tailored to site-specific requirements. To illustrate this, there are 30 Class B airspace areas (covering 37 primary airports). Of these areas, 13 have Class B ceilings at 10,000 feet MSL; 5 areas have 7,000 foot ceilings; 6 areas at 8,000 feet; 3 areas at 9,000 feet; and 3 areas have ceilings above 10,000 feet MSL. In the case of the Charlotte Class B airspace area, the FAA determined that lowering the Class B ceiling from 10,000 feet to 7,000 feet MSL would not provide adequate Class B airspace for aircraft operating into and out of the Charlotte airport. Specifically, Charlotte procedures and letters of agreement with adjacent ARTCCs require arriving turbojet and high performance turboprop aircraft enter Charlotte ATCT's area of jurisdiction at altitudes between 10,000 feet and 13,000 feet MSL. Once inside Charlotte ATCT's area of jurisdiction, this arrival traffic is assigned an altitude of 9,000 feet until abeam the Charlotte airport (for downwind traffic). Turbojet departures are assigned an initial altitude of 8,000 feet. Frequently, the arrivals at 9,000 feet and the departures at 8,000 feet “cross out” within 20 NM of the Charlotte airport. By lowering the Class B ceiling to 7,000 feet as suggested, uncontrolled VFR aircraft, not in communication with ATC, would be added to this mix of cross-out traffic. This situation would not provide adequate protection to the arrivals, departures and VFR aircraft operating in a congested airspace area as they transition to and from the enroute structure.

One commenter wrote about problems encountered when departing IFR northeastbound from the Lake Norman Airpark (14A), Mooresville, NC, to Greensboro, NC. The commenter, who flies a high-performance, single-engine turboprop aircraft, said he was directed to fly at 3,000 feet southeastbound for 325 miles in order to go northeast bound to Greensboro, NC. In addition, when flying northbound from Columbia, SC, to 14A, the commenter stated he is required to fly the arrival from Florence, SC to 14A, which is a considerable deviation. The commenter also requested that the FAA establish IFR routes to the north through Charlotte airspace.

The FAA is not aware of any aircraft that are vectored 325 miles off course. In fact, the longest radius the Charlotte ATCT facility controls from Charlotte Airport is less than 60 miles. Traffic departing Lake Norman Airpark with a destination of Greensboro Airport (GSO) should be able to proceed initially at an altitude of 3,000 feet, and then receive a climb clearance to a higher altitude within 15-20 miles (in a worst-case scenario). This would normally only occur if Charlotte were using a triple parallel simultaneous ILS approach, south operation, which occurs very infrequently (less than 5% of operations). If Charlotte were on a south converging operation (approximately 55% of the time) the aircraft in question should be able to climb to at least 5,000 feet within 10 miles of the Lake Norman Airpark, and then continue to climb to the pilot's requested altitude. If Charlotte is on a north operation (approximately 40% of operations) this aircraft should normally be assigned its final requested altitude within 10 miles of the Lake Norman Airpark. As is the case with most high density terminal areas, all high performance turbine-powered aircraft are assigned specific STARs. In the case of Charlotte, these STARs are arranged in a four-corner “bedpost” configuration. Therefore, high performance traffic from the Columbia, SC, Airport would be routed by the surrounding ARTCCs via either the UNARM or Chesterfield (or equivalent RNAV) STARs. If the traffic is not high performance (turbine powered) it could proceed virtually direct at an altitude of at or below 7,000 feet. Depending on traffic volume, low-performance aircraft could expect to be vectored 15 to 20 miles east or west of Charlotte airport to avoid congestion during busy periods.

Regarding the request to establish IFR routes north through Charlotte airspace, there are two north-south RNAV T-routes (T-201 and T-203) through the Charlotte Class B airspace area. RNAV route T-203 extends between Columbia, SC (CAE) and Pulaski, VA (PSK) transiting through the west side of the Charlotte Class B airspace area. In addition, VOR Federal airway V-37 is a north-south route through the Class B airspace area.

Three commenters from the Lancaster County, SC, area were concerned with noise and environmental issues. They argue that there would be an increase in noise from extending the Charlotte Class B airspace area that would affect lifestyle, wildlife and property values in the area. They questioned the need for aircraft to fly so low over Lancaster, SC, which is 40 miles from Charlotte Airport. They suggested that aircraft fly no lower than 5,000 feet over the area.

The purpose of Class B airspace is to reduce the potential for midair collisions in the airspace surrounding airports with high density air traffic operations. All aircraft operating in Class B airspace are subject to certain operating rules and equipment requirements. Class B airspace ensures that all aircraft flying in close proximity to high-performance, turbine-powered aircraft are under the guidance and control of an Air Traffic Control (ATC) facility. Aircraft flight paths are dictated by many factors including, but not limited to: the direction of operation at the Charlotte Airport; weather conditions, which determine the type of approaches being conducted; and traffic volume, which determines how long the final approach course is, as well as the base leg and downwind flight paths of aircraft. At Charlotte Airport, traffic volume varies with the time of day and, to some extent, the day of the week.

As discussed above in response to a previous comment, ATC procedures require that aircraft must be assigned non-conflicting altitudes. During triple parallel ILS operations, ATC assigns altitudes that are at least 1,000 feet apart to ensure separation between aircraft being vectored “head-on” to adjacent final approach courses. This is why aircraft using runways 36R and 36L are assigned 4,000 feet and 5,000 feet respectively. The use of the 4,000-foot altitude over the Lancaster area has been in place for several years (It should be noted that the previous required altitude was 3,600 feet).

Because of the extensive use of runway 36R for departures, arriving aircraft must be spaced further apart to provide room for aircraft awaiting take off to be sequenced between aircraft that are landing. This means that, during heavy departure periods, the final approach course for traffic landing on runway 36R often extends 25 to 30 miles from the airport. This places much of this traffic over the Lancaster, SC, area at an assigned altitude of 4,000 feet. The expansion of the Charlotte Class B airspace area will provide Class B protection for these aircraft operating at 4,000 feet.

If 5,000 feet is used as the floor of Class B airspace in the vicinity of Lancaster, SC, it will require traffic assigned to runway 36L to operate no lower than 6,000 feet in order to meet the 1,000 foot vertical separation requirement. If traffic using runway 36L joins the final approach course at 6,000 feet instead of 5,000 feet, it would drive the final approach course out further from the airport. This could hamper the controller's flexibility in providing an orderly and expeditious flow of traffic because less room would be available for vectoring, sequencing and spacing traffic.

The Rule

The FAA is amending Title 14, Code of Federal Regulations (14 CFR) part 71 to modify the Charlotte, NC, Class B airspace area. This action (depicted on the attached chart) expands the lateral and vertical limits of the Charlotte Class B airspace area to provide the additional airspace needed to: ensure the containment aircraft within Class B airspace as required by FAA directives; support the operations of a third parallel runway (18R/36L); and, accommodate RNAV departure procedures. The modifications to the Charlotte Class B airspace area are summarized below:

Area A that extends from the surface to and including 10,000 feet MSL is unchanged by this rule.

Area B that extends from 1,800 feet MSL up to 10,000 feet MSL is modified by expanding a part of Area B north of the Charlotte Airport from the current 11 NM arc of the Charlotte VOR/DME (CLT) outward to the 14 NM arc. This expansion of Area B is made only from the point of intersection of the CLT 14 NM arc and Highway 321, then clockwise along the 14 NM arc to the CLT 024°T radial. At that point, Area B reverts to the existing 11 NM arc. The purpose of this change is to ensure that arrivals to runways 18R, 18C and 18L are contained within Class B airspace throughout the approach. In addition, the cutout around the Gastonia Municipal Airport (AKH) is widened to facilitate better access to and from the airport.

Area C is that airspace extending upward from 3,600 feet MSL to and including 10,000 feet MSL that lies to the north of Area B. Additionally, the northeast edge of Area C is moved from the current CLT 20 NM arc outward to the 23 NM arc. This change extends the 3,600 foot Class B airspace floor by 3 NM to the northeast to accommodate vectoring patterns and the descent profile of aircraft conducting the ILS RWY 23 approach.

Area D is redescribed as a small area located east of the Charlotte Airport, (south of Area C and east of Area B) that extends from 5,000 feet MSL up to 10,000 feet MSL. The modified Area D lowers Class B airspace from 6,000 feet MSL to 5,000 feet MSL in order to contain aircraft flying easterly RNAV departure procedures within Class B airspace during climbout.

Area E is redescribed as that airspace from 3,600 feet MSL up to 10,000 feet MSL, located to the south of Area B. The modified Area E extends the 3,600 foot Class B airspace floor southward to the CLT 25 NM arc. This will provide adequate vectoring airspace and ensure that aircraft will be retained within Class B airspace.

Area F is redescribed as that airspace extending from 4,000 feet MSL to 10,000 feet MSL. The modified Area F is located southwest of AKH within an area bounded by Highway 321, the CLT 20 NM arc and power lines that extend in a southwesterly direction west of AKH. This area provides an adequate vector area for runway 5 arrivals.

Area G is a new area extending from 5,000 feet MSL up to 10,000 feet MSL located generally northwest of AKH. Area G consists of that airspace within an area bounded by the power lines, the CLT 20 NM arc, and Highway 321. Along with Area F, Area G provides airspace to prevent aircraft departing on westerly tracks from exiting and reentering Class B airspace during climbout.

Area H is a new area extending from 4,000 feet MSL up to 10,000 feet MSL in the northernmost section of the Charlotte Class B airspace area. This area extends the 4,000 foot floor of Class B airspace out to the CLT 30 NM arc, north of the airport. This extension is needed to provide adequate airspace needed for separation and vectoring arrivals to the appropriate final approach course; to comply with simultaneous triple ILS procedures; and, to ensure aircraft remain within Class B airspace.

Area I is a new segment defining the easternmost section of the Class B airspace area. Area I extends from 6,000 feet MSL up to 10,000 feet MSL. This segment lowers the floor of Class B airspace from 8,000 feet MSL to 6,000 feet MSL within that area from Highway 601 eastward to the CLT 25 NM. The rest of Area I retains the current 6,000 foot MSL floor. These changes ensure arrivals and departures do not exit and reenter Class B airspace.

Area J is a new area directly south of Area E. Area J extends Class B airspace, with a 4,000 foot MSL floor, southward between the CLT 25 NM arc and the CLT 30 NM arc. This expands the 4,000 foot floor of Class B airspace out to the CLT 30 NM arc, south of the airport. This extension is needed to provide adequate airspace needed for separation and vectoring arrivals to the appropriate final approach course; to comply with simultaneous triple ILS procedures; and, to ensure that aircraft remain within Class B airspace.

Area K is a new segment defining the westernmost section of the Class B airspace area. Area K extends from 6,000 feet MSL up to 10,000 feet MSL. This segment lowers the floor of Class B airspace from 8,000 feet MSL to 6,000 feet MSL within the area between the CLT 20 NM arc and the CLT 25 NM arc (west of the Charlotte Airport). Area K also extends Class B airspace southward to abut Area J. The rest of the airspace in Area K retains the current 6,000 foot MSL floor.

Finally, the Charlotte/Douglas International Airport reference point coordinates in the Class B airspace legal description are changed from lat. 35°12′52″ N., long. 80°56′36″ W., to 35°12′49″ N., long. 80°56′57″ W., to reflect the latest National Airspace System data.

The above changes to the Charlotte Class B airspace area are needed to ensure the containment of IFR aircraft within Class B airspace as required by FAA directives; accommodate the implementation of RNAV departure procedures; and support operations of a third parallel runway.

All radials listed in the Charlotte Class B airspace description in this rule are stated in degrees relative to True North.

Class B airspace areas are published in paragraph 3000 of FAA Order JO 7400.9U, dated August 18, 2010 and effective September 15, 2010 which is incorporated by reference in 14 CFR 71.1. The Class B airspace area in this document will be published subsequently in the Order.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507(d)) requires that the FAA consider the impact of paperwork and other information collection burdens imposed on the public. We have determined that there is no new information collection requirement associated with this final rule.

Regulatory Evaluation Summary

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule. Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this final rule. The reasoning for this determination follows:

This final rule enhances safety by improving the flow of air traffic thereby reducing the potential for midair collision in the Charlotte, NC, terminal area. After consultation with a diverse cross-section of stakeholders that participated in the ad hoc committee, we found in the NPRM that the proposed rule might result in minimal cost. As we received no adverse comments regarding the initial economic analysis, we have determined that this final rule will result in minimal cost.

This final rule will enhance safety, reduce the potential for a midair collision and will improve the flow of air traffic. As such, we estimate a minimal impact with substantial positive net benefits. FAA has, therefore, determined that this final rule is not a “significant regulatory action” as defined in section 3(f) of Executive Order 12866, and is not “significant” as defined in DOT's Regulatory Policies and Procedures.

Final Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

Our initial determination was that the rule would not have a significant economic impact on a substantial number of small entities. We received no public comments regarding our initial determination. As such, this final rule will not have a significant economic impact on a substantial number of small entities because the economic impact is expected to be minimal.

Therefore the FAA Administrator certifies that this final rule will not have a significant economic impact on a substantial number of small entities.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. The FAA has assessed the effect of this final rule and determined that it will enhance safety and is not considered an unnecessary obstacle to trade.

List of Subjects in 14 CFR Part 71

Airspace, Incorporation by reference, Navigation (air).

The Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010, is amended as follows:

Paragraph 3000 Subpart B—Class B Airspace.

* * * * *

ASO NC B Charlotte, NC [Revised]

Charlotte/Douglas International Airport (Primary Airport)

(Lat. 35°12′49″ N., long. 80°56′57″ W.)

Charlotte VOR/DME

(Lat. 35°11′25″ N., long. 80°57′06″ W.)

Gastonia Municipal Airport

(Lat. 35°12′10″ N., long. 81°09′00″ W.)

Boundaries

Area A. That airspace extending upward from the surface to and including 10,000 feet MSL within a 7-mile radius of the Charlotte VOR/DME.

Area B. That airspace extending upward from 1,800 feet MSL to and including 10,000 feet MSL bounded by a line beginning at the Charlotte VOR/DME 024° radial 14-mile fix; thence direct to the Charlotte VOR/DME 032° radial 11-mile fix, thence clockwise via the 11-mile arc of the Charlotte VOR/DME to lat. 35°09′37″ N., long. 81°10′21″ W.; thence east to lat. 35°10′17″ N., long. 81°08′10″ W.; thence counterclockwise around a 2-mile radius of the Gastonia Municipal Airport to lat. 35°14′02″ N., long. 81°08′10″ W.; thence west to intersect U.S. Highway 321 at lat. 35°15′00″ N., long. 81°11′21″ W.; thence north along U.S. Highway 321 to the 14-mile arc of the Charlotte VOR/DME at lat. 35°19′20″ N., long. 81°11′13″ W.; thence clockwise via the 14-mile arc to the point of beginning, excluding that airspace within Area A described above.

Area C. That airspace extending upward from 3,600 feet MSL to and including 10,000 feet MSL bounded by a line beginning at the intersection of U.S. Highway 321 and the Charlotte VOR/DME 20-mile arc at lat. 35°26′49″ N., long. 81°12′44″ W.; thence clockwise along the 20-mile arc to intersect the Marshall Steam Plant Rail Spur at lat. 35°31′14″ N., long. 81°00′42″ W.; thence north along the Rail Spur to the Charlotte VOR/DME 25-mile arc at lat. 35°36′25″ N., long. 80°58′57″ W.; thence clockwise along the 25-mile arc to long. 80°46′00″ W.; thence south along long. 80°46′00″ W., to the Charlotte VOR/DME 23-mile arc; thence clockwise along the 23-mile arc to the Charlotte VOR/DME 067° radial; thence southwest along the 067° radial to the Charlotte VOR/DME 20-mile arc; thence clockwise along the 20-mile arc to the Charlotte VOR/DME 081° radial; thence west along the 081° radial to the Charlotte VOR/DME 11-mile arc; thence counterclockwise along the 11-mile arc to the Charlotte VOR/DME 032° radial, 11-mile fix; thence direct to the Charlotte VOR/DME 024° radial, 14-mile fix; thence counterclockwise along the 14-mile arc of the Charlotte VOR/DME to intersect U.S. Highway 321 at lat. 35°19′20″ N., long. 81°11′13″ W., thence north along U.S. Highway 321 to the point of beginning.

Area D. That airspace extending upward from 5,000 feet MSL to and including 10,000 feet MSL bounded by a line beginning at the Charlotte VOR/DME 081° radial 11-mile fix; thence east along the 081° radial to the 20-mile fix; thence clockwise along the 20-mile arc of the Charlotte VOR/DME to lat. 34°56′07″ N., long. 80°41′23″ W.; thence north to the point of beginning.

Area E. That airspace extending upward from 3,600 feet MSL to and including 10,000 feet MSL bounded by a line beginning at lat. 35°15′00″ N., long. 81°11′21″ W., thence east to lat. 35°14′02″ N., long. 81°08′10″ W.; thence clockwise along a 2-mile radius of the Gastonia Municipal Airport to lat. 35°10′17″ N., long. 81°08′10″ W.; thence west to intersect the Charlotte VOR/DME 11-mile arc at lat. 35°09′37″ N., long. 81°10′21″ W.; thence counterclockwise along the 11-mile arc to the Charlotte VOR/DME 081° radial 11-mile fix; thence south direct to the Charlotte VOR/DME 147° radial 25-mile fix; thence clockwise along the 25-mile arc of the Charlotte VOR/DME to lat. 34°49′37″ N., long. 81°12′05″ W.; thence north to the Charlotte VOR/DME 218° radial 20-mile fix, thence clockwise along the 20-mile arc of the Charlotte VOR/DME, to intersect U.S. Highway 321 at lat. 34°57′21″ N., long. 81°14′28″ W.; thence north along U.S. Highway 321 to the point of beginning.

Area F. That airspace extending upward from 4,000 feet MSL to and including 10,000 feet MSL bounded by a line beginning at the intersection of the power lines and the Charlotte VOR/DME 20-mile arc at lat. 35°08′08″ N., long. 81°21′10″ W.; thence east along the power lines to intersect U.S. Highway 321 at lat. 35°11′52″ N., long. 81°12′41″ W.; thence south along U.S. Highway 321 to intersect the Charlotte VOR/DME 20-mile arc at lat. 34°57′21″ N., long. 81°14′28″ W; thence clockwise along the 20-mile arc to the point of beginning.

Area G. That airspace extending upward from 5,000 feet MSL to and including 10,000 feet MSL bounded by a line beginning at the intersection of the power lines and the Charlotte VOR/DME 20-mile arc at lat. 35°08′08″ N., long. 81°21′10″ W.; thence clockwise along the 20-mile arc to intersect U.S. Highway 321 at lat. 35°26′49″ N., long. 81°12′44″ W.; thence south along U.S. Highway 321 to intersect the power lines at lat. 35°11′52″ N., long. 81°12′41″ W.; thence west along the power lines to the point of beginning.

Area H. That airspace extending upward from 4,000 feet MSL to and including 10,000 feet MSL bounded by a line beginning at lat. 35°37′15″ N., long. 81°10′32″ W.; thence direct to intersect the Charlotte VOR/DME 30-mile arc at lat. 35°41′30″ N., long. 80°57′40″ W.; thence clockwise along the 30-mile arc to long. 80°46′00″ W.; thence south along long. 80°46′00″ W., to intersect the Charlotte VOR/DME 25-mile arc; thence counterclockwise along the 25-mile arc to intersect the Marshall Steam Plant Rail Spur at lat. 35°36′25″ N., long. 80°58′57″ W.; thence south along the Rail Spur to intersect the Charlotte VOR/DME 20-mile arc at lat. 35°31′14″ N., long. 81°00′42″ W.; thence counterclockwise along the 20-mile arc to intersect U.S. Highway 321 at lat. 35°26′49″ N., long. 81°12′44″ W.; thence north along U.S. Highway 321 to intersect the Charlotte VOR/DME 25-mile arc at lat. 35°32′26″ N., long. 81°13′44″ W.; thence clockwise along the 25-mile arc to intersect the Charlotte VOR/DME 337° radial; thence northwest along the 337° radial to the point of beginning.

Area I. That airspace extending upward from 6,000 feet MSL to and including 10,000 feet MSL bounded by a line beginning at the Charlotte VOR/DME 062° radial, 30-mile fix, thence southwest along the 062° radial to the 25-mile fix; thence clockwise along the Charlotte VOR/DME 25-mile arc to the Charlotte VOR/DME 120° radial; thence southeast along the 120° radial to the 30-mile fix; thence clockwise along the Charlotte VOR/DME 30-mile arc to lat. 34°44′58″ N., long. 80°39′47″ W.; thence north direct to intersect the Charlotte VOR/DME 20-mile arc at lat. 34°56′07″ N., long. 80°41′23″ W.; thence counterclockwise along the 20-mile arc to the Charlotte VOR/DME 067° radial; thence northeast along the 067° radial to the 23-mile arc; thence counterclockwise along the 23-mile arc to long. 80°46′00″ W.; thence north along long. 80°46′00″ W., to the Charlotte VOR/DME 30-mile arc; thence clockwise along the 30-mile arc to the point of beginning.

Area J. That airspace extending upward from 4,000 feet MSL to and including 10,000 feet MSL bounded by a line beginning at the Charlotte VOR/DME 147° radial 25-mile fix; thence direct to intersect the Charlotte VOR/DME 30-mile arc at lat. 34°44′58″ N., long. 80°39′47″ W.; thence clockwise along the Charlotte VOR/DME 30-mile arc to lat. 34°44′01″ N., long. 81°12′05″ W.; thence north to intersect the Charlotte VOR/DME 25-mile arc at lat. 34°49′37″ N., long. 81°12′05″ W.; thence counterclockwise along the Charlotte VOR/DME 25-mile arc to the point of beginning.

Area K. That airspace extending upward from 6,000 feet MSL to and including 10,000 feet MSL bounded by a line beginning at the Charlotte VOR/DME 293° radial, 30-mile fix; thence clockwise along the Charlotte VOR/DME 30-mile arc to lat. 35°41′30″ N., long. 80°57′40″ W.; thence southwest direct to intersect the Charlotte VOR/DME 337° at lat. 35°37′15″ N., long. 81°10′32″ W.; thence southeast along the 337° radial to the Charlotte VOR/DME 25-mile arc; thence counterclockwise along the 25-mile arc to intersect U.S. Highway 321 at lat. 35°32′26″ N., long. 81°13′44″ W., thence south along new Highway 321 to intersect the Charlotte VOR/DME 20-mile arc at lat. 35°26′49″ N., long. 81°12′44″ W.; thence counterclockwise along the 20-mile arc to the Charlotte VOR/DME 218° radial; thence south to intersect the Charlotte VOR/DME 30-mile arc at lat. 34°44′01″ N., long. 81°12′05″ W.; thence clockwise along the 30-mile arc to the Charlotte VOR/DME 242° radial, thence northeast along the 242° radial to the Charlotte VOR/DME 25-mile arc; thence clockwise along the 25-mile arc to the Charlotte VOR/DME 293° radial; thence northwest along the 293° radial to the point of beginning.

* * * * *

Issued in Washington, DC, on November 3, 2010.
Edith V. Parish,
Manager, Airspace, Regulations and ATC Procedures Group.

BILLING CODE 4910-13-P

[FR Doc. 2010-28399 Filed 11-15-10; 8:45 am]

BILLING CODE 4910-13-C